DEPARTMENT OF HEALTH AND HUMAN SERVICES

National Institutes of Health

Amended Notice of Meeting; National Institute of Environmental Health Sciences

Notice is hereby given of a change in the meeting of the National Institute of Environmental Health Sciences Special Emphasis Panel, October 22, 2024, 10 a.m. to October 23, 2024, 2 p.m., NIEHS, Keystone, 530 Davis Drive, Durham, NC 27709 which was published in the Federal Register on August 26, 2024, 89 FR 68451.

This notice is being amended due to a change in the meeting date. Dr. Leroy Worth's October 22-23, 2024 meeting is being rescheduled to December 3-4, 2024. The time and location will remain the same. This meeting is closed to the public.

Dated: October 17, 2024.
Bruce A. George,
Program Analyst, Office of Federal Advisory Committee Policy.

[FR Doc. 2024-24452 Filed 10-21-24; 8:45 am]

BILLING CODE 4140-01-P